DEPARTMENT OF COMMERCE

National Oceanic and Atmospheric Administration

RIN 0648-XF875

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Joint Habitat Advisory Panel and Plan Development Team to consider actions affecting New England fisheries in the exclusive economic zone (EEZ). Recommendations from this group will be brought to the full Council for formal consideration and action, if appropriate.

DATES: This meeting will be held on Wednesday, December 20, 2017 at 9 a.m.

ADDRESSES: The meeting will be held at the University of Massachusetts Dartmouth, 836 South Rodney French Blvd., New Bedford, MA 02744; Phone: (508) 999-8197

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Joint Habitat Advisory Panel and Plan Development Team (PDT) plan to review the Coral Amendment, specifically reviewing the PDT's suggested changes to Broad Zone Option 7 and recommend further boundary adjustments as needed, reviewing available analysis of this option and recommending a preferred broad zone alternative to the Habitat Committee. The group plans to also discuss the Clam Dredge Framework with emphasis on reviewing fishery, surfclam, and habitat data to better understand spatial patterns and tradeoffs between habitat vulnerability and access to fishing grounds, with a specific focus on the Great South Channel Habitat Management Area, brainstorm exemption area alternatives and outline next steps in the development of the framework.

They also plan to review a general update on Fishing Effects model project and discuss fishing gear data elements—review draft list of métiers including gear dimensions. The group will also receive and information update on Offshore wind development. Other business may be discussed as necessary.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date. Consistent with 16 U.S.C. 1852, a copy of the recording is available upon request.

Authority: 16 U.S.C. 1801 et seq.

Dated: December 1, 2017.
Tracey L. Thompson,
Acting Deputy Director, Office of Sustainable Fisheries, National Marine Fisheries Service.

[FR Doc. 2017-26309 Filed 12-5-17; 8:45 am]

BILLING CODE 3510-22-P